SECURITIES AND EXCHANGE COMMISSION

[Release Nos. 33-10102A; 34-78127A; File No. 265-28]

Investor Advisory Committee Meeting

AGENCY: Securities and Exchange Commission.

ACTION: Notice of meeting of Securities and Exchange Commission Dodd-Frank Investor Advisory Committee; correction.

SUMMARY: The Securities and Exchange Commission published a document in the Federal Register on June 27, 2016, providing notice that the Securities and Exchange Commission Investor Advisory Committee would hold a public meeting on Thursday, July 14, 2016. The document contained an incorrect description of the agenda for the meeting.

FOR FURTHER INFORMATION CONTACT: Marc Oorloff Sharma, Senior Special Counsel, Office of the Investor Advocate, at (202) 551-3302, Securities and Exchange Commission, 100 F Street NE., Washington, DC 20549.

Correction

In the Federal Register of June 27, 2016, in FR Doc. 2016-15109, on page 41629, in the first column, correct the description of the meeting agenda to read:

The agenda for the meeting includes: Remarks from Commissioners; a discussion of the state of sustainability reporting; a discussion regarding investment company reporting modernization; and a nonpublic administrative work session during lunch.

Dated: July 6, 2016.
Brent J. Fields,
Secretary.

[FR Doc. 2016-16311 Filed 7-8-16; 8:45 am]

BILLING CODE 8011-01-P